FEDERAL COMMUNICATIONS COMMISSION

47 CFR Part 25

[IB Docket No. 96-111; FCC 99-325]

Earth Stations Communicating With Non-U.S. Licensed Space Stations; Correction

AGENCY: Federal Communications Commission.

ACTION: Final rule; correction.

SUMMARY: The Federal Communications Commission published in the Federal Register of November 15, 1999, (64 FR 61791), a document revising rules governing application requirements for earth stations communicating with non-U.S. licensed space stations. The Commission inadvertently failed to specify that it was revising only the first sentence of § 25.137(b), rather than § 25.137(b) in its entirety. This document corrects that error.

DATES: Effective on December 22, 1999.

FOR FURTHER INFORMATION CONTACT: Steven Spaeth, International Bureau, (202) 418-1539.

SUPPLEMENTARY INFORMATION: The FCC published a document in the Federal Register on November 15, 1999 (64 FR 61791) amending 47 CFR 25.137(b). In FR Doc. 99-29538, published in the Federal Register of November 15, 1999 (64 FR 61791), everything in § 25.137(b) after the first sentence was inadvertently removed. This correction adds the part of § 25.137(b) inadvertently removed on November 15, 1999.

§ 25.137 [Corrected]

In rule FR Doc. 99-29538 published on November 15, 1999, (64 FR 61791) make the following correction. On page 61792, in the third column, revise § 25.137(b) to read as follows:

* * * * *

(b) Earth station applicants, or entities filing a “letter of intent,” or “Petition for Declaratory Ruling,” requesting authority to operate with a non-U.S. licensed space station must attach to their FCC Form 312 an exhibit providing legal, financial, and technical information for the non-U.S. licensed space station in accordance with part 25 and part 100 of this Chapter. If the non-U.S. licensed space station is in orbit and operating, the applicant need not include the financial information specified in §§ 25.114(c)(17) and (c)(18) of this part. If the international coordination process for the non-U.S. licensed space station has been completed, the applicant need not include the technical information specified in §§ 25.114(c)(5) through (c)(11) and (c)(14) of this part, unless the technical characteristics differ from the characteristics established in that process.

* * * * *

Federal Communications Commission.
Magalie Roman Salas,
Secretary.

[FR Doc. 00-7596 Filed 3-27-00; 8:45 am]

BILLING CODE 6712-01-P